DEPARTMENT OF DEFENSE

Office of the Secretary

[Docket No. DoD-2008-HA-0120]

Submission for OMB Review; Comment Request

ACTION: Notice.

The Department of Defense has submitted to OMB for clearance, the following proposal for collection of information under the provisions of the Paperwork Reduction Act (44 U.S.C. Chapter 35).

DATES: Consideration will be given to all comments received by December 30, 2009.

Title and OMB Number: DoD Patient Safety Survey; OMB Control Number 0720-0034.

Type of Request: Reinstatement.

Number of Respondents: 14,022.

Responses per Respondent: 1.

Annual Responses: 14,022.

Average Burden Per Response: 10 minutes.

Annual Burden Hours: 2,384 hours.

Needs and Uses: In its ongoing response to legislation, DoD implemented a Web-based patient safety culture survey to a census of all staff working in Army, Navy, and Air Force Military Health System (MHS) facilities in the U.S. and internationally, including Military Treatment Facility hospitals as well as ambulatory and dental services. The survey obtains MHS staff opinions on patient safety issues such as teamwork, communications, medical error occurrence and response, error reporting, and overall perceptions of patient safety. The purpose of the survey is to assess the current status of patient safety in MHS facilities as well as to provide baseline input for assessment of patient safety improvement over time. Survey results will be prepared at the facility and Service levels and MHS overall.

Affected Public: Individuals or households; Federal Government.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: November 13, 2009.
Patricia L. Toppings,
OSD Federal Register Liaison Officer, Department of Defense.

[FR Doc. E9-28525 Filed 11-27-09; 8:45 am]

BILLING CODE 5001-06-P